FEDERAL DEPOSIT INSURANCE CORPORATION

Agency Information Collection Activities: Submission for OMB Review; Comment Request (3064-0072)

AGENCY: Federal Deposit Insurance Corporation (FDIC).

ACTION: Notice of information collection to be submitted to OMB for review and approval under the Paperwork Reduction Act.

SUMMARY: In accordance with requirements of the Paperwork Reduction Act of 1995 (“PRA”), 44 U.S.C. 3501 et seq., the FDIC may not conduct or sponsor, and the respondent is not required to respond to, an information collection unless it displays a currently valid Office of Management and Budget (OMB) control number. The FDIC, as part of its continuing effort to reduce paperwork and respondent burden, invites the general public and other Federal agencies to take this opportunity to comment on the revision of an existing information collection, as required by the PRA. On May 13, 2009 (74 FR 22547), the FDIC solicited public comment for a 60-day period on revisions to three forms included in its “Acquisition Services Information Requirements” information collection. No comments were received. Therefore, the FDIC hereby gives notice of its submission of the revisions to OMB for review.

DATES: Comments must be submitted on or before August 19, 2009.

ADDRESSES: Interested parties are invited to submit written comments. All comments should refer to the name of the collection. Comments may be submitted by any of the following methods:

• http://www.FDIC.gov/regulations/laws/federal/notices.html.

• E-mail: comments@fdic.gov.

• Mail: Leneta G. Gregorie (202.898.3719), Counsel, Federal Deposit Insurance Corporation, 550 17th Street, NW., Washington, DC 20429.

• Hand Delivery: Comments may be hand-delivered to the guard station at the rear of the 550 17th Street Building (located on F Street), on business days between 7 a.m. and 5 p.m.

A copy of the comments may also be submitted to the FDIC Desk Officer, Office of Information and Regulatory Affairs, Office of Management and Budget, New Executive Office Building, Room 10235, Washington, DC 20503.

FOR FURTHER INFORMATION CONTACT: For further information about the revisions discussed in this notice, please contact Leneta G. Gregorie, by telephone, at (202) 898-3719, or by mail at the address identified above. In addition, copies of the proposed new Forms 3700/4A, 3700/12, and 3700/44 can be obtained at the FDIC's Web site (http://www.fdic.gov/regulations/laws/federal/).

SUPPLEMENTARY INFORMATION:

The FDIC is submitting for OMB review minor revisions to three of the forms used in support of its contracting and leasing activities. These revisions are generally intended to simplify the information collection and maintain consistency with recent changes to related Federal regulations.

Title: Acquisition Services Information Requirements.

Forms Currently In Use

FDIC Background Investigation Questionnaire for Contractor Personnel & Subcontractors, Form 1600/04.

FDIC Background Investigation Questionnaire for Contractors, Form 1600/07.

FDIC Past Performance Questionnaire, Form 3700/57.

FDIC Contractor Representation and Certifications, Form 3700/04A.

Integrity and Fitness Representations and Certifications, Form 3700/12.

Leasing Representations and Certifications Form 3700/44.

Estimated Number of Respondents and Burden Hours
FDIC document | Hours per unit | Number of respondents | Burden hours
Background Investigation Questionnaire Management (1600/04) | .33 | 4,000 | 1,320
Background Investigation Questionnaire Contractors (1600/07) | .50 | 200 | 100
Contractor Representation and Certifications (3700/04A) | .50 | 360 | 180
Integrity and Fitness Representations and Certifications (3700/12) | .33 | 360 | 119
Leasing Representations and Certifications (3700/44) | 1.0 | 35 | 35
FDIC Past Performance Questionnaire | .75 | 1,080 | 810
Total |  | 6,035 | 2,564

General Description of Collection: The collection involves the submission of information on various forms by contractors who wish to do business, have done business, or are currently under contract with the FDIC. The information is used to: Ensure compliance with established contractor ethics regulations (12 CFR Part 366); obtain information on a contractor's past performance for proposal evaluation purposes; review a potential lessor's fitness and integrity prior to entering into a lease transaction; and perform background investigations on contractors and contractor personnel.

Current Action: The FDIC is proposing to modify three of the forms in the Acquisition Services Information Requirements collection: Contractor Representations and Certifications, Form 3700/4A; Integrity and Fitness Representations, Form 3700/12; and Leasing Representations and Certifications, Form 3700/44. Specifically, in Form 3700/4A, Contractor Representations and Certifications, the FDIC is proposing elimination of the “Duplication of Cost” representation as unnecessary; removal of the “Clean Air and Water Certification” based on its removal from the Federal Acquisition Regulation (FAR) in response to a recommendation by the Environmental Protection Agency; modification of the “Small Disadvantaged Business (SDB) Concern Certification” to reflect the Small Business Administration's recent announcement that it will discontinue SDB certifications; modification of the “Equal Opportunity Certification” and the “Certification and Disclosure Regarding Payments to Influence Certain Federal Transactions” to mirror related FAR provisions; and substitution of an offeror's Data Universal Numbering System (DUNS) number for the previously requested Tax Identification Number (TIN) in the “Signature” section of the form. In Form 3700/12, Integrity and Fitness Representations, the FDIC proposes to insert a sentence in the preamble referencing FDIC regulations on Minimum Standards of Integrity and Fitness For An FDIC Contractor at 12 CFR Part 366; add a “Retention of Information” paragraph in Section III, instructing contractors on the retention period for records; and substitute a contractor's DUNS number for the previously requested TIN in the “Signature” section of the form. Finally, in Form 3700/44, Leasing Representations and Certifications, the FDIC proposes to clarify and highlight the various certifications currently covered under the general heading “Environmental Condition” by reclassifying them as certifications related to “Asbestos-Containing Materials,” “Water Quality,” “Indoor Air Quality,” and “Hazardous Substances.” The FDIC does not anticipate that any of these changes will impact its current burden estimates.

Request for Comment

Comments are invited on: (a) Whether these collections of information are necessary for the proper performance of the FDIC's functions, including whether the information has practical utility; (b) the accuracy of the estimate of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 15th day of July 2009.
Federal Deposit Insurance Corporation.
Robert E. Feldman,
Executive Secretary.

[FR Doc. E9-17148 Filed 7-17-09; 8:45 am]

BILLING CODE 6714-01-P